DEPARTMENT OF TRANSPORTATION

Federal Aviation Administration

14 CFR Part 39

[Docket No. 99-CE-88-AD; Amendment 39-12005; AD 2000-23-32]

RIN 2120-AA64

Airworthiness Directives; DG Flugzeugbau GmbH Models DG-500 Elan Series, DG-500M, and DG-500MB Sailplanes

AGENCY: Federal Aviation Administration, DOT.

ACTION: Final rule.

SUMMARY: This amendment adopts a new airworthiness directive (AD) that applies to certain DG Flugzeugbau GmbH (DG Flugzeugbau) Models DG-500 Elan Series, DG-500M, and DG-500MB sailplanes. This AD requires you to visually inspect the elevator control system for proper movement, obtain and incorporate a repair scheme if improper movement is found, and modify and install resin thickened cottonflock reinforcements to the elevator control system as a way to increase the stiffness of the elevator control support stand. This AD is the result of mandatory continuing airworthiness information (MCAI) issued by the airworthiness authority for the Federal Republic of Germany. The actions specified by this AD are intended to detect and correct improper movement in the elevator control system and to increase the stiffness of the elevator control support stand. Without accomplishing these actions, the pilot's capability to use full elevator control deflection could be limited, which could require increased force in moving the elevator control with a consequent potentially uncontrolled flight condition.

DATES: This AD becomes effective on January 13, 2001.

The Director of the Federal Register approved the incorporation by reference of certain publications listed in the regulations as of January 13, 2001.

ADDRESSES: You may get the service information referenced in this AD from DG Flugzeugbau GmbH, Postbox 41 20, D-76646 Bruchsal, Federal Republic of Germany; telephone: +49 7257-890; facsimile: +49 7257-8922. You may examine this information at the Federal Aviation Administration (FAA), Central Region, Office of the Regional Counsel, Attention: Rules Docket No. 99-CE-88-AD, 901 Locust, Room 506, Kansas City, Missouri 64106; or at the Office of the Federal Register, 800 North Capitol Street, NW, suite 700, Washington, DC.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Discussion

What Events Have Caused This AD?

The Luftfahrt-Bundesamt (LBA), which is the airworthiness authority for the Federal Republic of Germany, recently notified FAA that an unsafe condition may exist on certain DG Flugzeugbau Models DG-500 Elan Series, DG-500M, and DG-500MB sailplanes. The LBA reports an incident where a Model DG-500 sailplane experienced notably higher elevator control stiffness during an aerobatic flight. This situation was the result of the outer aluminum tube moving and slipping within the elevator control support stand.

What Are the Consequences If the Condition Is Not Corrected?

If the elevator control support stand permits the outer aluminum tube to move, the pilot's capability to use full elevator control deflection could be limited, which could require increased force in moving the elevator control. This could lead to an uncontrolled flight condition.

Has FAA Taken Any Action to This Point?

We issued a proposal to amend part 39 of the Federal Aviation Regulations (14 CFR part 39) to include an AD that would apply to certain DG Flugzeugbau Models DG-500 Elan Series, DG-500M, and DG-500MB sailplanes. This proposal was published in the Federal Register as a notice of proposed rulemaking (NPRM) on September 21, 2000 (65 FR 57113). The NPRM proposed to require you to visually inspect the elevator control system for proper movement; obtain and incorporate a repair scheme if improper movement is found; and modify and install resin thickened cottonflock reinforcements to the elevator control system as a way to increase the stiffness of the elevator control support stand.

Was the Public Invited To Comment?

Interested persons were afforded an opportunity to participate in the making of this amendment. No comments were received on the proposed rule or the FAA's determination of the cost to the public.

The FAA's Determination

What Is FAA's Final Determination on This Issue?

After careful review of all available information related to the subject presented above, we have determined that air safety and the public interest require the adoption of the rule as proposed except for minor editorial corrections. We determined that these minor corrections:

—Will not change the meaning of the AD; and

—Will not add any additional burden upon the public than was already proposed.

Cost Impact

How Many Sailplanes Does This AD Impact?

We estimate that this AD affects 10 sailplanes in the U.S. registry.

What Is the Cost Impact of This AD on Owners/Operators of the Affected Sailplanes?

We estimate the following costs to accomplish the inspection and modification:

Labor cost | Parts cost | Total cost per sailplane | Total cost on U.S. sailplane operators
3 workhours × $60 per hour = $180 | $25 per sailplane | $180 + $25 = $205 per sailplane | $205 × 10 = $2,050.

Compliance Time of This AD

What Is the Compliance Time of This AD?

The compliance time of this AD is to accomplish the inspection “within the next 30 calendar days after the effective date of this AD” and to accomplish the modification “within the next 120 days after the effective date of this AD.”

Why Is the Compliance Time Presented in Calendar Time Instead of Hours Time-in-Service (TIS)?

We have established the compliance in calendar time instead of hours time-in-service (TIS) because the unsafe condition described by this AD is not directly related to sailplane operation. The chance of this situation occurring is the same for a sailplane with 10 hours time-in-service (TIS) as it would be for a sailplane with 500 hours TIS. Calendar time for compliance will assure that the unsafe condition is addressed on all sailplanes in a reasonable time period.

Why Are the Compliance Times of the German AD Different Than the Compliance Times in This AD?

The German AD requires the inspection before next flight and the modification within 45 days of the effective date of the German AD. We do not have justification to require the inspection before next flight. We use compliance times such as this when we have identified an urgent safety of flight situation. We believe that 30 calendar days will give the owners or operators of the affected sailplanes enough time to have the inspection accomplished without compromising the safety of the sailplanes.

The 120-calendar day compliance time for the modification gives the owners/operators of the affected sailplanes enough time to adequately schedule the work to coincide with other maintenance activities.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-23-32 DG Flugzeugbau GMBH: Amendment 39-12005; Docket No. 99-CE-88-AD.

(a) What sailplanes are affected by this AD? This AD affects Models DG-500 Elan Series, DG-500M, and DG-500MB sailplanes, all serial numbers up to and including 5E203, that are certificated in any category.

(b) Who must comply with this AD? Anyone who wishes to operate any of the above sailplanes must comply with this AD.

(c) What problem does this AD address? The actions specified by this AD are intended to detect and correct improper movement in the elevator control system and to increase the stiffness of the elevator control support stand. Without accomplishing these actions, the pilot's capability to use full elevator control deflection could be limited, which could require increased force in moving the elevator control with a consequent potentially uncontrolled flight condition.

(d) What actions must I accomplish to address this problem? To address this problem, you must accomplish the following:

Action | Compliance time | Procedures
(1) Visually inspect the push rod guide to ensure that the outer aluminum tube of the guide does not move | Within the next 30 days after January 13, 2001 (the effective date of this AD), and prior to accomplishing the modification required in paragraph (d)(3) of this AD. The second inspection is not required if the modification is incorporated immediately after the initial inspection | Follow the inspection procedures in the Instruction section of DG Flugzeugbau Technical Note (TN) 348/12 (applicable to the model DG-500 Elan Series) or TN 843/12 (applicable to the models DG-500M and DG-500MB), both dated October 6, 1999.
(2) If any movement is detected in the outer aluminum tube as specified in this AD and the referenced service information, accomplish the following | Required prior to further flight after the inspection when the discrepancy is found | In accordance with the repair scheme obtained from the manufacturer.
(i) Obtain a repair scheme from the manufacturer at the address presented in paragraph (h) of this AD; and
(ii) Incorporate this repair scheme
(3) Modify and install resin thickened cottonflock reinforcements to the elevator control system as a way to increase the stiffness of the elevator control support stand | Within the next 120 days after January 13, 2001 (the effective date of this AD) | Follow the modification procedures in the Working Instructions No. 1 for TN 348/12 (843/12), dated September 28, 1999. The instructions are referenced in DG Flugzeugbau Technical Note (TN) 348/12 (applicable to the model DG-500 Elan Series) or TN 843/12 (applicable to the models DG-500M and DG-500MB), both dated October 6, 1999.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, FAA, Small Airplane Directorate, 901 Locust, Room 301, Kansas City, Missouri 64106; telephone: (816) 329-4144; facsimile: (816) 329-4090.

(g) What if I need to fly the sailplane to another location to comply with this AD? The FAA can issue a special flight permit under sections 21.197 and 21.199 of the Federal Aviation Regulations (14 CFR 21.197 and 21.199) to operate your sailplane to a location where you can accomplish the requirements of this AD.

(h) Are any service bulletins incorporated into this AD by reference? Actions required by this AD must be done in accordance with DG Flugzeugbau Working Instructions No. 1 for TN 348/12 (843/12), dated September 28, 1999, and DG Flugzeugbau Technical Note No. 348/12 and 843/12, dated October 6, 1999. The Director of the Federal Register approved this incorporation by reference under 5 U.S.C. 552(a) and 1 CFR part 51. You can get copies from DG Flugzeugbau, Postbox 41 20, D-76646 Bruchsal, Federal Republic of Germany. You can look at copies at the FAA, Central Region, Office of the Regional Counsel, 901 Locust, Room 506, Kansas City, Missouri, or at the Office of the Federal Register, 800 North Capitol Street, NW, suite 700, Washington, DC.

(i) When does this amendment become effective? This amendment becomes effective on January 13, 2001.

Note 2: The subject of this AD is addressed in German AD Number 1999-341, dated November 18, 1999.

Issued in Kansas City, Missouri, on November 14, 2000.
James E. Jackson,
Acting Manager, Small Airplane Directorate, Aircraft Certification Service.

[FR Doc. 00-29920 Filed 11-29-00; 8:45 am]

BILLING CODE 4910-13-P